DEPARTMENT OF ENERGY

Federal Energy Regulatory Commission

[ Project No. 2790-055]

Notice of Proposed Restricted Service List or Section 106 Consultation; Boott Hydropower Inc.; Eldred L. Field Hydroelectric Facility Trust; Lowell Hydroelectric Project; Massachusetts

Rule 2010(d) of the Federal Energy Regulatory Commission's (Commission) Rules of Practice and Procedure, 18 CFR section 385.2010(d), provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Massachusetts State Historic Preservation Officer (SHPO), the National Park Service (NPS), and the Advisory Council on Historic Preservation (Advisory Council) pursuant to the Advisory Council's regulations, 36 CFR part 800, implementing section 106 of the National Historic Preservation Act, as amended, (16 U.S.C. section 470f), to complete the section 106 process for the proposed installation of pneumatic crest gates at the Lowell Hydroelectric Project.

Boott Hydropower, Inc. and Eldred L. Field Hydroelectric Facility Trust, as co-licensees for Project No. 2790, are invited to participate in consultation to complete the section 106 process for the proposed license amendment. For purposes of completing the section 106 process, we propose to restrict the service list for Project No. 2790-055 as follows:

John Fowler, Executive Director, Advisory Council on Historic Preservation, The Old Post Office Building, 1100 Pennsylvania Ave., NW., Suite 803, Washington, DC 20004.

John Eddins, Advisory Council on Historic, Preservation, The Old Post Office Building, 1100 Pennsylvania Ave., NW., Suite 803, Washington, DC 20004.

Brona Simon, SHPO, Executive Director, Massachusetts Historical Commission, Commonwealth of Massachusetts, 220 Morrissey Boulevard, Boston, MA 02125.

Kevin M. Webb, Environmental Affairs Coordinator, Boott Hydropower, Inc., Eldred L. Field Hydroelectric Facility Trust, One Tech Drive, Suite 220, Andover, MA 01810.

Michael Creasey, Superintendent. National Park Service, Lowell National Historic Park, 67 Kirk Street, Lowell, MA 01852-1029.

Any person on the official service list for the above-captioned proceeding may request inclusion on the restricted service list, or may request that a restricted service list not be established, by filing a motion to that effect within 15 days of this notice date. An original plus seven copies of any such motion must be filed with the Secretary of the Commission (888 First Street, NE., Washington, DC 20426) and must be served on each person whose name appears on the official service list. A motion may also be filed electronically via the Internet in lieu of paper. See 18 CFR 385.2001(a)(1)(iii) and the instructions on the Commission's Web site (http://www.ferc.gov) under the “e-filing” link. The Commission strongly encourages electronic filings. If no such motions are filed, the restricted service list will be effective at the end of the 15 day period. Otherwise, a further notice will be issued ruling on the motion.

Dated: September 14, 2011.
Kimberly D. Bose,
Secretary.

[FR Doc. 2011-24087 Filed 9-19-11; 8:45 am]

BILLING CODE 6717-01-P